DEPARTMENT OF COMMERCE

National Oceanic and Atmospheric Administration

RIN 0648-XH95

New England Fishery Management Council; Public Meeting

AGENCY: National Marine Fisheries Service (NMFS), National Oceanic and Atmospheric Administration (NOAA), Commerce.

ACTION: Public meeting.

SUMMARY: The New England Fishery Management Council (Council) will hold a three-day Council meeting on June 3-5, 2008 to consider actions affecting New England fisheries in the exclusive economic zone (EEZ).

DATES: The meeting will be held on Tuesday, June 3 beginning at 9 a.m., and Wednesday and Thursday, June 4 and 5, beginning at 8:30 a.m.

ADDRESSES: The meeting will be held at the Holiday Inn by the Bay, 88 Spring Street, Portland, ME 04101; telephone (207)775-2311. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, June 3, 2008

Following introductions and any announcements, the Council will receive a series of brief reports from the Council Chairman and Executive Director, the NOAA Fisheries Northeast Regional Administrator, Northeast Fisheries Science Center and Mid-Atlantic Fishery Management Council liaisons, NOAA General Counsel, NOAA Enforcement and representatives of the U.S. Coast Guard and the Atlantic States Marine Fisheries Commission. The Council also will review any experimental fishery permits requests published since the last Council meeting and possibly offer comments. Dr. William Overholtz from NOAA's Northeast Fisheries Science Center will then present a report titled An Ecosystem Approach to the Assessment of the Gulf of Maine/Georges Bank Herring Complex. Following a lunch break, the Council's Skate Committee intends to approve final management measures and alternatives for purposes of inclusion and analyses in Amendment 3 to the Skate Fishery Management Plan (FMP) and it's associated Draft Environmental Impact Statement. The day will end with action on the Council's Standard Bycatch Reporting Methodology Amendment. Members will review and approve, with modifications as necessary, staff recommendations for observer coverage levels for NEFMC-managed fisheries.

Wednesday, June 4, 2008

The Council will receive reports on results of the April 2008 Groundfish Assessment Review Meeting on biological reference points for species managed through the Council's Northeast Multispecies FMP and a Gulf of Maine Research Institute-funded project to evaluate monitoring and reporting needs that would allow for effective tracking of catch by “sector” vessels in New England. Prior to a lunch break, the Council's Groundfish Committee will review and ask for approval of management measures along with the identification of preferred alternatives for Draft Amendment 16 to the Northeast Multispecies (Groundfish) FMP for purposes of analyses and to solicit comments from the public. This agenda item will be discussed until the Council meeting adjourns for the day.

Thursday, June 5, 2008

The Council will address scoping comments on Amendment 15 to the Sea Scallop FMP. The Scallop Committee Chairman also will provide the Council with a brief overview of the recent Sea Scallop Advisory Panel meeting concerning scallop survey calibration research and activities to evaluate optical/acoustic survey technologies. The Habitat Committee will describe its draft Risk Assessment on the Adverse Impacts of Fishing on Essential Fisher Habitat to the Council. This will be followed by two presentations from the NMFS Office of Sustainable Fisheries: 1) a review of the agency's proposed rule to integrate National Environmental Policy Act requirements with Magnuson-Stevens Act requirements for fishery management plans; and 2) a review of the agency's proposed rule to address guidelines for annual catch limits and accountability measures in fishery management plans. NMFS Northeast Regional Office staff will provide the Council with an update on possible changes to the Harbor Porpoise Take Reduction Plan; and the Council's Research Steering Committee will report on recently reviewed habitat and a number of other cooperative research projects. The agenda will conclude with a report on the Stellwagen Bank National Marine Sanctuary's 2008 Draft Management Plan and Environmental Assessment.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: May 12, 2008.
Tracey L. Thompson,
Acting Director, Office of Sustainable Fisheries, National Marine Fisheries Service.

[FR Doc. E8-10846 Filed 5-14-08; 8:45 am]

BILLING CODE 3510-22-S